DEPARTMENT OF VETERANS AFFAIRS

[OMB Control No. 2900-NEW]

Agency Information Collection Activity Under OMB Review: Federal Medical Care Recovery Act Bill Requests

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 2, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-NEW” in any correspondence.

SUPPLEMENTARY INFORMATION:

Authority: 38 U.S.C. 501, 38 CFR 1.900 et. Seq.; 42 U.S.C. 2651-2653; 38 U.S.C. 1729; 28 CFR 43.2; and E.O. 9397.

Title: Federal Medical Care Recovery Act Bill Requests; Request for VA Billing, CHAMPVA Request for Billing.

OMB Control Number: 2900-NEW.

Type of Review: New collection.

Abstract: The purpose of collecting this information is to provide basic information from which potential liability can be assessed for VA to recover the cost of care from the liable party instead of the American taxpayer and Veteran paying for the care. Failure to provide any or all of the requested information may delay or result in VA's inability to create accident-related billing, assert a claim for reimbursement, and assist the Veteran in their personal injury or workers compensation claim. Without a third party paying for the care, the Veteran may owe VA copayments. With regards to the CHAMPVA form alone: Failure to provide any or all of the requested information may delay or result in VA's inability to provide CHAMPVA benefits.

An agency may not conduct or sponsor, and a person is not required to respond to a collection of information unless it displays a currently valid OMB control number. The Federal Register Notice with a 60-day comment period soliciting comments on this collection of information was published at 83 FR 16922 on April 17, 2018, pages 16922 and 16923.

Affected Public: Individuals and households.

Estimated Annual Burden: Request for VA Billing—385 hours. CHAMPVA Request for Billing—303 hours.

Estimated Average Burden per Respondent: Request for VA Billing—7 minutes. CHAMPVA Request for Billing—7 minutes.

Frequency of Response: Annually.

Estimated Number of Respondents: Request for VA Billing—3,300. CHAMPVA Request for Billing—2,600.

By direction of the Secretary:
Cynthia D. Harvey-Pryor,
Department Clearance Officer, Office of Quality, Privacy and Risk, Department of Veterans Affairs.

[FR Doc. 2018-14335 Filed 7-2-18; 8:45 am]

BILLING CODE 8320-01-P